DEPARTMENT OF COMMERCE

Economic Development Administration

Trade Adjustment Assistance for Firms Program Fiscal Year 2010 Annual Report

AGENCY: Economic Development Administration, Commerce.

ACTION: Notice.

SUMMARY: This annual report is submitted in accordance with Section 1866 of the Trade and Globalization Adjustment Assistance Act (TGAAA) of 2009, which was included as subtitle I (letter “I”) of title I of Division B of the American Recovery and Reinvestment Act of 2009 (Pub. L. 111-5, 123 Stat. 115, at 367). Section 1866 of the TGAAA directs the Secretary of Commerce to submit to Congress an annual report on the Trade Adjustment Assistance for Firms (TAAF) Program by the 15th of December each year. The TAAF Program is one of four Trade Adjustment Assistance (TAA) Programs authorized by the Trade Act of 1974 (19 U.S.C. 2341 et seq.) (Trade Act).

Administered by the Department of Commerce's Economic Development Administration (EDA), the goal of the TAAF Program is to help economically distressed U.S. businesses develop strategies to compete in the global economy. In general, the program provides cost-sharing technical assistance to eligible businesses to create and implement targeted business recovery plans, called Adjustment Proposals under the program. Firms contribute a matching share to create and implement their plan.

Technical assistance is provided through a nationwide network of eleven EDA-funded Trade Adjustment Assistance Centers (TAACs), which are either non-profits or university-affiliated. The TAACs provide assistance to firms petitioning EDA for certification of eligibility under the program and in the development and implementation of business recovery plans.

Firms that completed the TAAF Program in FY 2008 report that at completion, average sales were $10.3 million, average employment was 73, and average productivity was $140,977 (sales per employee). One year after completing the program (FY 2009), firms report that average sales increased by one percent, average employment decreased by 10 percent, and average productivity increased by 11 percent. The Bureau of Labor Statistics (BLS) reported that nationwide for the manufacturing industry in FY 2009, average employment decreased 12 percent and average productivity increased by 4 percent. Two years after completing the program (FY 2010), firms report that average sales decreased by 14 percent, average employment decreased by 16 percent, and average productivity increased by 3 percent. BLS reported that nationwide for the manufacturing industry in FY 2010, average employment decreased 12 percent and average productivity increased by 9 percent.

Overall, there has been an increase in the demand for the TAAF Program in FY 2010, as demonstrated by the increase in the number of petitions for certification and Adjustment Proposals submitted to EDA for approval. In FY 2010, EDA approved an additional 114 petitions, a 53 percent increase as compared to FY 2009; and approved an additional 93 Adjustment Proposals, a 54 percent increase as compared to FY 2009.

The addition of TAAF staff resources facilitated EDA's ability to improve processing time for petitions and Adjustment Proposals in FY 2010. Although there was a spike in petitions and Adjustment Proposals, EDA successfully met the 40-day processing deadline to make a final determination for petitions accepted for filing; and the 60-day processing deadline for approval of Adjustment Proposals as required in the TGAAA. In fact, the average processing time for petitions has started to decline below the 40-day requirement and the average processing time for Adjustment Proposals is below 30 days.

ADDRESSES: Trade Adjustment Assistance for Firms Division, Room D100, Economic Development Administration, U.S. Department of Commerce, Washington, DC 20230.

FOR FURTHER INFORMATION CONTACT: Bryan Borlik, Director of the TAAF Program, 202-482-3901.

SUPPLEMENTARY INFORMATION:

Table of Contents

Introduction

Program Description

Program Initiative

Results/Findings

Data for This Report

(1) The Number of Firms That Inquired About the Program

(2) The Number of Petitions Filed Under Section 251

(3) The Number of Petitions Certified and Denied

(4) The Average Time for Processing Petitions

(5) The Number of Petitions Filed and Firms Certified for Each Congressional District of the United States

(6) The Number of Firms That Received Assistance in Preparing Their Petitions

(7) The Number of Firms That Received Assistance Developing Business Recovery Plans (Adjustment Proposals)

(8) The Number of Adjustment Proposals Approved and Denied by the Secretary of Commerce

(9) Sales, Employment, and Productivity at Each Firm Participating in the Program at the Time of Certification

(10) Sales, Employment, and Productivity at Each Firm Upon Completion of the Program and Each Year for the Two-Year Period Following Completion

(11) The Financial Assistance Received by Each Firm Participating in the Program

(12) The Financial Contribution Made by Each Firm Participating in the Program

(13) The Types of Technical Assistance Included in the Adjustment Proposals of Firms Participating in the Program

(14) The Number of Firms Leaving the Program Before Completing the Project or Projects in Their Adjustment Proposals and the Reason the Project Was Not Completed

Conclusion

Introduction

This report is provided in compliance with Section 1866 of the Trade and Globalization Adjustment Assistance Act (TGAAA) of 2009, which was included as subtitle I (letter “I”) of title I of Division B of the American Recovery and Reinvestment Act of 2009 (Pub. L. 111-5, 123 Stat. 115, at 367). Section 1866 of the TGAAA directs the Secretary of Commerce to provide an annual report on the Trade Adjustment Assistance for Firms (TAAF) program by the 15th of December each year. Section 1866 of the TGAAA states:

IN GENERAL.—Not later than December 15, 2009, and each year thereafter, the Secretary of Commerce shall prepare a report containing data regarding the trade adjustment assistance for firms program provided for in chapter 3 of title II of the Trade Act of 1974 (19 U.S.C. 2341 et seq.) for the preceding fiscal year.

This report will provide findings and results to the extent that the data is available on the following 14 measures:

1. The number of firms that inquired about the program.

2. The number of petitions filed under section 251.

3. The number of petitions certified and denied.

4. The average time for processing petitions.

5. The number of petitions filed and firms certified for each congressional district of the United States.

6. The number of firms that received assistance in preparing their petitions.

7. The number of firms that received assistance developing business recovery plans (Adjustment Proposals).

8. The number of Adjustment Proposals approved and denied by the Secretary of Commerce.

9. Sales, employment, and productivity at each firm participating in the program at the time of certification.

10. Sales, employment, and productivity at each firm upon completion of the program and each year for the two-year period following completion.

11. The financial assistance received by each firm participating in the program.

12. The financial contribution made by each firm participating in the program.

13. The types of technical assistance included in the Adjustment Proposals of firms participating in the program.

14. The number of firms leaving the program before completing the project or projects in their Adjustment Proposals and the reason the project was not completed.

Program Description

The TAAF program is one of four Trade Adjustment Assistance (TAA) programs authorized under the Trade Act of 1974 (19 U.S.C. 2341 et seq.) (Trade Act). The responsibility for administering the TAAF program is delegated by the Secretary of Commerce to the Economic Development Administration (EDA). TAAF program provides technical assistance to manufacturers and service firms affected by import competition to help the firms develop and implement projects to regain global competitiveness.

The mission of the TAAF Program is to help U.S. firms regain competitiveness in the global economy. Import-impacted U.S. manufacturing, production, and service firms can receive matching funds for projects that expand markets, strengthen operations, and sharpen competitiveness through TAAF. The program provides assistance in the development of business recovery plans, which are known as Adjustment Proposals under Section 252 of the Trade Act, and matching funds to implement projects outlined in the Adjustment Proposals.

The TAAF Program supports a national network of 11 non-profit or university-affiliated Trade Adjustment Assistance Centers (TAACs) to help U.S. manufacturing, production, and service firms in all fifty states, the District of Columbia, and the Commonwealth of Puerto Rico. Firms work with the TAACs to apply for certification for TAAF assistance, and prepare and implement strategies to guide their economic recovery.

The other TAA programs are TAA for Workers, Farmers, and Communities, which are administered by the Departments of Labor, Agriculture, and Commerce through EDA, respectively.

Exhibit 1: TAA Programs

Program Initiative

As noted above, the TAAF Program provides technical assistance in the development and implementation of Adjustment Proposals. Projects are aimed at improving a firm's competitive position. Specifically, funds are applied toward the cost of consultants, engineers, designers, or industry experts for improvement projects in targeted areas that can better a firm's position, such as engineering, information technology, management, market development, marketing, new product development, quality improvement, and sales. Funds are not provided directly to firms; instead EDA funds TAACs and TAACs pay a cost-shared proportion of the cost to secure specialized business consultants.

To certify a firm as eligible to apply for adjustment assistance, the Secretary must determine that three conditions are met:

1. A significant number or proportion of the workers in the firm have been or are threatened to be totally or partially separated;

2. Sales and/or production of the firm have decreased absolutely, or sales and/or production of an article or service that accounted for at least 25 percent of total production or sales of the firm during the 12, 24, or 36 months preceding the most recent 12, 24, or 36-month period for which data are available have decreased absolutely; and

3. Increased imports of articles like or directly competitive with articles produced or services provided by the firm have “contributed importantly” to both the layoffs and the decline in sales and/or production.

BILLING CODE 3510-24-P

Exhibit 2: TAACs and Their Respective Service Areas

The main responsibilities of the TAACS include:

• Assisting firms in preparing their petitions for TAAF. Firms are not charged for any assistance related to preparing a petition.

• Once a petition has been approved, TAACs work closely with firm management to identify the firm's strengths and weaknesses and develop a customized Adjustment Proposal designed to stimulate recovery and growth. The program pays up to 75% of the cost of developing an Adjustment Proposal and the firm must pay the rest. EDA must approve all Adjustment Proposals to ensure they conform to statutory and regulatory requirements.

• After an Adjustment Proposal has been approved, company management and TAAC staff jointly identify consultants with the specific expertise required to assist the firm.

• Under the TAAF Program, EDA shares the cost of Adjustment Proposal task implementation. For an Adjustment Proposal in which proposed tasks total $30,000 or less, EDA will provide 75 percent of the cost and the firm is responsible for the balance. For an Adjustment Proposal in which proposed tasks total over $30,000, EDA and the firm share the implementation costs evenly; EDA pays 50 percent of the total cost and the firm pays 50 percent. Due to limited program funding, EDA limits its share of technical assistance to a certified firm to $75,000. After a competitive procurement process, the TAAC and the firm generally contract with private consultants to implement the Adjustment Proposal.

There are three main phases to receiving technical assistance under the program. The phases are (1) petitioning for certification, (2) recovery planning, and (3) project implementation.

Exhibit 3: Program Phases

Phase I—Petitioning for Certification

The first step to receiving assistance is the submission of a petition to EDA to be certified as a trade impacted firm. This petition is Form ED-840P “Petition by a Firm for Certification of Eligibility to Apply for Trade Adjustment Assistance” and any supporting documentation. Certification specialists within the TAACs generally work with the firm at no cost to complete and submit a petition to EDA.

Upon receipt of the petition, EDA performs a thorough analysis of the petition and supporting documents to determine if the petition is complete and may be accepted. EDA is required to make a final determination on the petition within 40 days of accepting a petition.¹

¹ As of May 17, 2009, the deadline for making a final determination is 40 days. Before May 17, 2009, EDA had 60 days to make a determination.

Phase II—Recovery Planning

Certified firms then work with TAAC staff to develop a customized Adjustment Proposal and submit to EDA for approval. Once an Adjustment Proposal has been submitted, EDA is required to make a final determination within 60 days.

Phase III—Adjustment Proposal Implementation

The firm works with consultants to implement projects in an approved Adjustment Proposal. As projects are implemented and if the firm is satisfied with the work, the firm will first pay their match to the consultant, and then send a notice to the TAAC stating that they are satisfied with the work and that they have paid their matching share. The TAAC will then pay the Federal matching share. Firms have up to five years from the date of an Adjustment Proposal's approval to implement it, unless they receive approval for an extension. Generally, firms complete the implementation of their Adjustment Proposals over a two-year period.

Results/Findings

Data for This Report

The data used in this report was collected from the TAACs as part of their reporting requirements, petitions for certification, and the Adjustment Proposals submitted by the TAACs on behalf of firms. Data from these sources were recorded into a central database by Eligibility Reviewers at EDA. Results for average processing times and the number of approved and denied petitions and Adjustment Proposal were derived by EDA.

(1) The Number of Firms That Inquired About the Program

In FY 2010, TAACs received 3,446 inquiries about the TAAF Program.

Exhibit 4: Inquiries about the TAAF Program by TAAC

TAAC | Number of firms that inquired about the TAAF Program
Great Lakes | 106
Mid-America | 137
MidAtlantic | 376
Midwest | 82
New England | 163
New York State | 134
Northwest | 806
Rocky Mountain | 351
Southeastern | 42
Southwest | 280
Western | 969
Total | 3,446

(2) The Number of Petitions Filed Under Section 251

(3) The Number of Petitions Certified and Denied

(4) The Average Time for Processing Petitions

In FY 2010, 305 petitions were filed under Section 251 of the Trade Act, up an additional 27 petitions, a 10 percent increase compared to the number of petitions filed in FY 2009. EDA certified 330 petitions, up an additional 114 petitions, a 53 percent increase compared to the number of certifications in FY 2009. Petitions are certified on a rolling basis throughout the year. Petitions certified in FY 2010 may be the result of those filed or accepted in FY 2009; and petitions filed or accepted in FY 2010 may not result in certification in FY 2010.

The addition of TAAF staff resources facilitated EDA's ability to improve processing time for petitions in FY 2010. Although there was a spike in petitions, EDA successfully met the 40-day processing deadline to make a final determination for petitions accepted for filing as required in the TGAAA. In fact, the average processing time for petitions has started to decline below the 40-day requirement.

Exhibit 5: Petition Activity: FY 2008-FY 2010

FY | Number of petitions filed | Number of petitions accepted for filing | Number of petitions certified | Number of petitions denied | Average days between acceptance and certification | Average days between filing and certification
2008 | 189 | 190 | 188 | 0 | 45 | N/A
2009 | 278 | 244 | 216 | 1 | 44 | 89
2010 | 305 | 325 | 330 | 0 | 40 | 74
% Change (2009 to 2010) | 10% | 33% | 53% | N/A | (9)% | (17)%

Exhibit 6: Petitions Filed by TAAC: FY 2008-FY 2010

Exhibit 7: Petitions Accepted by TAAC: FY 2008-FY 2010

Exhibit 8: Petitions Certified by TAAC: FY 2008-FY 2010

Exhibit 9: Petitions Filed, Accepted and Certified by TAAC: FY 2010 ²

² Petitions are certified on a rolling basis throughout the year, therefore activity in these categories may not result in certification within the same FY. These totals represent the activity under each category within FY 2010.

TAAC | Number of petitions filed ² | Number of petitions accepted for filing ² | Number of petitions certified
Great Lakes | 14 | 16 | 19
Mid-America | 26 | 30 | 28
MidAtlantic | 57 | 59 | 58
Midwest | 33 | 36 | 40
New England | 53 | 56 | 56
New York State | 22 | 26 | 25
Northwest | 19 | 22 | 21
Rocky Mountain | 17 | 16 | 18
Southeastern | 33 | 30 | 30
Southwest | 23 | 25 | 23
Western | 8 | 12 | 12
Total | 305 | 328 | 330

Exhibit 10: Petitions Filed, Accepted, and Certified by TAAC: FY 2010

Exhibit 11: Firms Certified for TAAF by Industry: FY 2010

The majority of petitions certified for TAAF were submitted by firms in the manufacturing industry. Firms in wholesale trade and technical services rounded out the top three industries. Approximately 7 percent of firms certified in FY 2010 were service sector firms. Demand from service firms in FY 2011 is likely to increase at the same rate as FY 2010.

(5) The Number of Petitions Filed and Firms Certified for Each Congressional District of the United States

Exhibit 12: Petitions Filed by Congressional District: FY 2010

Congressional district(s) | No. of petitions filed
AK
At Large | 1
AL
4 | 1
AR
1 | 1
2 | 4
3 | 2
AZ
5 | 1
6 | 1
CA
13 | 1
30 | 1
32 | 1
34 | 1
43 | 1
CO
1 | 2
2 | 2
3 | 3
4 | 1
5 | 1
CT
1 | 2
2 | 2
5 | 1
6 | 1
FL
10 | 1
21 | 1
22 | 1
24 | 1
GA
2 | 2
5 | 1
6 | 1
7 | 1
9 | 1
HI
1 | 1
ID
1 | 3
IL
3 | 2
4 | 1
5 | 3
6 | 3
8 | 1
10 | 1
13 | 1
14 | 4
16 | 1
17 | 1
IN
2 | 1
7 | 1
8 | 1
13 | 1
KS
1 | 2
2 | 2
3 | 1
4 | 2
KY
1 | 1
2 | 2
3 | 1
LA
2 | 2
3 | 3
6 | 1
7 | 1
MA
1 | 4
3 | 3
4 | 3
5 | 3
6 | 3
7 | 3
9 | 4
10 | 2
MD
2 | 1
4 | 1
ME
1 | 3
2 | 3
MI
1 | 1
7 | 1
9 | 2
11 | 3
12 | 1
MN
3 | 2
4 | 1
5 | 1
6 | 1
7 | 1
MO
1 | 1
2 | 1
4 | 1
5 | 2
6 | 1
7 | 4
8 | 2
MS
1 | 1
MT
At Large | 3
NC
7 | 2
8 | 1
9 | 1
10 | 1
11 | 1
12 | 1
ND
1 | 3
NH |
1 | 4
NJ
8 | 1
12 | 1
NY
1 | 1
3 | 1
8 | 2
20 | 2
22 | 1
25 | 6
26 | 4
27 | 1
28 | 2
29 | 2
OH
4 | 1
14 | 1
16 | 1
OK
1 | 5
2 | 1
3 | 3
OR
3 | 1
4 | 2
PA
3 | 3
4 | 1
5 | 2
6 | 1
7 | 3
8 | 2
9 | 2
10 | 2
11 | 8
12 | 1
13 | 2
15 | 8
16 | 3
17 | 6
18 | 1
19 | 6
RI
1 | 8
2 | 3
SC
2 | 2
3 | 1
5 | 3
6 | 2
SD
At Large | 1
TN
4 | 1
6 | 1
TX
3 | 1
12 | 4
13 | 1
15 | 1
UT
1 | 1
2 | 1
3 | 1
VA
4 | 1
6 | 1
VT
1 | 1
WA
4 | 1
5 | 2
6 | 2
7 | 2
9 | 2
WI
1 | 1
4 | 1
5 | 4
6 | 2
7 | 1

Exhibit 13: Petitions Certified by Congressional District: FY 2010

Congressional district(s) | No. of petitions certified
AK
At Large | 2
AL
4 | 1
AR
1 | 1
2 | 4
3 | 2
AZ
4 | 1
CA
7 | 1
20 | 1
26 | 1
30 | 1
31 | 1
32 | 1
34 | 1
43 | 1
48 | 1
CO
1 | 1
2 | 2
3 | 3
4 | 1
5 | 1
6 | 1
CT
1 | 2
2 | 2
5 | 1
6 | 1
FL
10 | 1
22 | 1
24 | 1
GA | 6
2 | 2
3 | 1
5 | 1
6 | 1
9 | 1
HI
1 | 2
IA
3 | 1
ID
1 | 3
IL
3 | 2
4 | 2
5 | 3
6 | 4
7 | 1
8 | 2
10 | 1
13 | 1
14 | 5
16 | 1
17 | 1
IN
2 | 1
7 | 1
8 | 1
13 | 1
KS
1 | 2
2 | 1
3 | 1
4 | 2
KY
1 | 1
3 | 1
LA
2 | 2
3 | 2
6 | 1
7 | 1
MA
1 | 4
3 | 4
4 | 3
5 | 3
6 | 3
7 | 3
9 | 5
10 | 2
MD
2 | 1
4 | 1
ME
1 | 3
2 | 3
MI
1 | 1
7 | 1
9 | 2
10 | 1
11 | 4
12 | 1
MN
2 | 2
3 | 1
4 | 1
5 | 1
6 | 1
MO
1 | 2
2 | 1
3 | 1
4 | 2
5 | 2
6 | 1
7 | 5
8 | 1
MS
1 | 1
MT
At Large | 5
NC
1 | 1
5 | 1
7 | 2
9 | 1
10 | 2
11 | 1
12 | 1
ND
1 | 1
At Large | 1
NH
1 | 5
2 | 1
NY
1 | 1
3 | 1
8 | 1
20 | 3
25 | 6
26 | 5
27 | 1
28 | 4
29 | 3
OH
3 | 1
4 | 1
8 | 1
10 | 1
14 | 1
16 | 1
OK
1 | 5
2 | 2
3 | 2
OR
3 | 1
4 | 2
PA
3 | 3
4 | 1
6 | 3
7 | 4
8 | 2
9 | 2
10 | 3
11 | 7
12 | 1
13 | 1
15 | 8
16 | 2
17 | 7
18 | 1
19 | 8
RI
1 | 8
2 | 3
SC
2 | 1
3 | 1
5 | 2
6 | 2
SD
At Large | 1
TN
4 | 1
6 | 1
TX
3 | 1
12 | 4
15 | 1
16 | 1
21 | 1
UT
1 | 1
2 | 1
3 | 2
28 | 1
VA
4 | 1
6 | 2
WA
4 | 1
5 | 2
6 | 1
7 | 3
9 | 1
WI
3 | 1
4 | 1
5 | 5
6 | 3

(6) The Number of Firms that Received Assistance in Preparing Their Petitions

In FY 2010, on average, 232 firms received assistance in preparing petitions per quarter. The total number of firms that received technical assistance varies each quarter as assistance is provided throughout the year. A firm receiving assistance in one quarter may continue to receive assistance in the following quarter.

Exhibit 14: Petition Assistance Activity per Quarter: FY 2010

TAAC | Average No. of firms receiving assistance with preparing petitions (per quarter)
Great Lakes | 8
Mid-America | 61
MidAtlantic | 10
Midwest | 49
New England | 9
New York State | 15
Northwest | 15
Rocky Mountain | 21
Southeastern | 20
Southwest | 5
Western | 19
Total | 232

(7) The Number of Firms That Received Assistance Developing Business Recovery Plans (Adjustment Proposals)

In FY 2010, on average, 146 firms received assistance in developing Adjustment Proposals; and 690 firms received assistance in the implementation of Adjustment Proposal plans per quarter. The total number of firms that received technical assistance varies each quarter as assistance is provided throughout the year. A firm receiving assistance in one quarter may continue to receive assistance in the following quarter.

Exhibit 15: Adjustment Proposal Development Activity per Quarter: FY 2010

TAAC | Average No. of firms receiving assistance with adjustment proposal development (per quarter) | Average No. of firms receiving assistance with adjustment proposal implementation (per quarter)
Great Lakes | 4 | 58
Mid-America | 14 | 63
MidAtlantic | 13 | 85
Midwest | 13 | 64
New England | 16 | 103
New York State | 13 | 30
Northwest | 5 | 61
Rocky Mountain | 18 | 79
Southeastern | 21 | 54
Southwest | 16 | 54
Western | 13 | 39
Total | 146 | 690

(8) The Number of Adjustment Proposals Approved and Denied by the Secretary of Commerce

In FY 2010, EDA approved all 265 Adjustment Proposals that were submitted; an additional 93 business recovery plans, a 54 percent increase as compared to FY 2009.

Exhibit 16: Summary of Adjustment Proposals Approved: FY 2008-FY 2010

FY | Number of adjustment proposals approved | Total government share (millions) | Total firm share (millions) | Total projected adjustment proposal costs (millions) | Average government assistance per firm
2008 | 139 | $7.9 | $7.5 | $15.4 | $56,835
2009 | 172 | $10.3 | $9.8 | $20.2 | $59,884
2010 | 265 | $16.4 | $15.6 | $32.1 | $61,958
% Change (2009 to 2010) | 54% | 59% | 59% | 59% | 3%

Exhibit 17: Adjustment Proposals Approved by TAAC: FY 2008-FY 2010

Exhibit 18: Adjustment Proposals Approved by TAAC: FY 2010

TAAC | Number of adjustment proposals approved
Great Lakes | 24
Mid-America | 25
MidAtlantic | 29
Midwest | 40
New England | 48
New York State | 14
Northwest | 20
Rocky Mountain | 17
Southeastern | 23
Southwest | 16
Western | 9
Total | 265

(9) Sales, Employment, and Productivity at Each Firm Participating in the Program at the Time of Certification

The average sales, employment and productivity of firms certified into the program in FY 2010 was higher than that of firms certified in FY 2009. For the purposes of this report, productivity is defined as net sales per employee. Since the certified firms are in various industries, which have a variety of ways to measure productivity, sales per employee was chosen as the productivity measure. This measure is used because it can be generally applied to all certified firms.

Exhibit 19: Comparison of Average Sales, Employment, and Productivity at Firms at the Time of Certification: FY 2008-FY 2010

FY | Average sales | Average employment | Average productivity
2008 | $13,081,993 | 82 | $159,537
2009 | $10,338,422 | 79 | $130,866
2010 | $19,137,139 | 138 | $138,675
% Change (2009 to 2010) | 85% | 74% | 15%

Exhibit 20: Summary Comparison of Average Sales, Employment, and Productivity for Firms at the Time of Certification by TAAC: FY 2010

TAAC | Average sales | Average employment | Average productivity
Great Lakes | $35,127,822 | 177 | $198,462
Mid-America | 10,265,214 | 88 | 116,650
MidAtlantic | 15,122,655 | 89 | 169,917
Midwest | 22,062,757 | 114 | 193,533
New England | 7,632,080 | 51 | 148,649
New York State | 14,585,421 | 91 | 160,279
Northwest | 8,720,395 | 72 | 121,117
Rocky Mountain | 43,725,204 | 203 | 215,395
Southeastern | 11,052,021 | 68 | 162,530
Southwest | 7,529,645 | 366 | 20,573
Western | 34,685,316 | 196 | 176,966
Total | 19,137,139 | 138 | 138,675

Exhibit 21: Summary of Sales, Employment, and Productivity at Each Firm Participating in the Program at the Time of Certification: FY 2010

Firm No. | Sales ($) | Employment | Productivity ($)
—2118051509 | $5,333,040 | 23 | $231,871
—2111249509 | 1,208,258 | 7 | 172,608
—2104802926 | 2,455,461 | 39 | 62,961
—2103906847 | 1,328,000 | 10 | 132,800
—2083450313 | 42,874,044 | 185 | 231,752
—2073175636 | 16,101,898 | 137 | 117,532
—2068287522 | 11,938,999 | 31 | 385,129
—2059136725 | 60,764,758 | 181 | 335,717
—2023874564 | 2,518,000 | 21 | 119,905
—2010236141 | 3,019,178 | 25 | 120,767
—2007895508 | 613,906 | 6 | 102,318
—1997824464 | 4,171,401 | 41 | 102,795
—1990457870 | 7,559,350 | 98 | 77,136
—1973580510 | 45,487,139 | 457 | 99,534
—1958214488 | 7,467,369 | 49 | 153,429
—1956376675 | 1,780,606 | 24 | 74,973
—1941157067 | 612,124 | 5 | 122,425
—1899532397 | 2,037,257 | 4 | 479,355
—1898904502 | 315,272 | 5 | 63,054
—1884551502 | 9,040,000 | 58 | 155,862
—1880843073 | 5,265,708 | 41 | 128,432
—1838877792 | 3,483,609 | 31 | 112,374
—1828369285 | 17,140,309 | 162 | 105,804
—1759758341 | 6,010,971 | 50 | 120,219
—1742177269 | 9,976,653 | 62 | 160,914
—1740960093 | 13,154,390 | 45 | 292,320
—1740086291 | 26,940,727 | 147 | 183,270
—1739842518 | 2,310,068 | 27 | 85,558
—1704715418 | 12,875,152 | 171 | 75,293
—1661485163 | 3,393,780 | 31 | 109,477
—1635069591 | 7,537,000 | 51 | 147,784
—1542448328 | 9,922,578 | 120 | 82,688
—1520701304 | 4,697,310 | 77 | 61,004
—1484222959 | 1,444,014 | 11 | 131,274
—1471661205 | 6,322,000 | 40 | 158,050
—1461073515 | 92,484,000 | 302 | 306,238
—1454186553 | 282,778 | 4 | 70,695
—1432738384 | 3,528,890 | 33 | 106,936
—1427334167 | 37,484,000 | 359 | 104,412
—1417226723 | 983,006 | 11 | 89,364
—1281724603 | 4,028,000 | 38 | 106,000
—1243439974 | 22,596,956 | 99 | 228,252
—1241427110 | 10,487,391 | 104 | 100,840
—1187326382 | 707,341 | 4 | 176,835
—1169045359 | 5,046,000 | 43 | 117,349
—1129223838 | 10,578,429 | 104 | 101,716
—1128703111 | 1,354,620 | 14 | 96,759
—1126326868 | 2,212,064 | 19 | 116,424
—1116912576 | 5,470,620 | 25 | 218,825
—1097459358 | 92,988,380 | 461 | 201,601
—1086130450 | 26,260,884 | 105 | 250,509
—1038621441 | 14,126,803 | 103 | 137,153
—1004329971 | 17,601,176 | 165 | 106,674
—1000240433 | 15,690,666 | 102 | 153,830
—999105849 | 2,547,000 | 21 | 121,286
—995226650 | 4,930,000 | 24 | 205,417
—947962116 | 4,549,568 | 34 | 133,811
—934975561 | 4,495,541 | 39 | 115,270
—885365563 | 3,121,641 | 34 | 91,813
—857031178 | 11,353,000 | 99 | 114,677
—852461053 | 932,387 | 143 | 6,520
—843055880 | 1,606,394 | 36 | 44,622
—840166025 | 10,585,957 | 109 | 97,119
—806944983 | 9,609,077 | 85 | 113,048
—794575305 | 1,406,804 | 3 | 468,935
—788484912 | 15,056,348 | 108 | 139,411
—779297214 | 108,005,394 | 736 | 146,746
—759779489 | 43,715,000 | 160 | 273,219
—726121634 | 1,660,145 | 14 | 118,582
—702330654 | 12,073,751 | 125 | 96,590
—692565138 | 6,173,766 | 23 | 268,425
—681139744 | 13,963,911 | 85 | 164,281
—674357347 | 5,304,000 | 52 | 102,000
—672809309 | 10,311,629 | 28 | 368,272
—654901806 | 10,811,000 | 53 | 203,981
—622207779 | 3,122,027 | 41 | 76,147
—591889087 | 2,346,285 | 237 | 9,900
—585725005 | 16,463,961 | 85 | 193,694
—560318612 | 4,131,687 | 22 | 190,664
—554924474 | 171,103 | 3 | 57,034
—550588573 | 943,348 | 10 | 97,554
—543809333 | 9,295,728 | 25 | 371,829
—504989951 | 25,003,966 | 78 | 320,235
—436909589 | 11,245,912 | 337 | 33,371
—429565845 | 194,828 | 8 | 24,354
—426260672 | 677,432 | 12 | 56,453
—413262258 | 16,722,097 | 104 | 160,789
—370373838 | 2,195,090 | 14 | 156,792
—356857349 | 8,882,300 | 105 | 84,593
—347882712 | 10,155,480 | 508 | 19,991
—334795766 | 2,737,505 | 31 | 88,307
—334691552 | 2,927,563 | 25 | 117,103
—325246775 | 16,232,121 | 108 | 150,297
—322389137 | 3,344,284 | 32 | 104,509
—311586268 | 939,857 | 5 | 187,971
—297716183 | 34,926,049 | 192 | 181,509
—263774128 | 4,637,869 | 42 | 110,425
—229337262 | 1,529,815 | 18 | 84,990
—222714747 | 10,140,682 | 157 | 64,590
—172876934 | 3,873,669 | 41 | 94,480
—167523770 | 1,377,000 | 15 | 91,800
—138492743 | 10,056,766 | 35 | 287,336
—126595790 | 5,781,000 | 116 | 49,836
—111557939 | 14,913,000 | 108 | 138,083
—106605238 | 94,110,272 | 316 | 297,817
—80321537 | 2,496,868 | 28 | 88,135
—75360888 | 3,998,950 | 21 | 190,426
—72799676 | 14,999,842 | 67 | 223,878
—52573030 | 3,731,345 | 38 | 99,503
—41850669 | 20,268,686 | 98 | 206,823
—2420921 | 1,191,242 | 13 | 91,634
—438018 | 32,608,321 | 116 | 281,106
16573262 | 2,803,311 | 21 | 133,491
22130970 | 8,378,094 | 55 | 152,329
48907681 | 1,447,117 | 11 | 136,779
83564872 | 1,099,835 | 13 | 84,603
85474563 | 3,475,788 | 50 | 69,516
92019186 | 4,882,733 | 27 | 180,842
98077462 | 6,103,725 | 66 | 92,481
132107069 | 4,875,150 | 55 | 88,639
215326868 | 8,232,877 | 105 | 78,408
235292569 | 201,980,000 | 934 | 216,253
278618212 | 313,150 | 5 | 62,630
294844867 | 613,236 | 10 | 61,324
299352457 | 1,090,852 | 14 | 77,918
300171006 | 2,425,844 | 22 | 112,830
370006245 | 45,317,479 | 260 | 174,634
375977128 | 3,275,986 | 30 | 109,200
416345364 | 6,160,767 | 431 | 14,294
431287226 | 6,578,244 | 344 | 19,123
434352811 | 853,056 | 19 | 43,972
447765204 | 4,050,320 | 32 | 126,573
456495450 | 22,274,281 | 77 | 289,276
457871548 | 166,600,000 | 660 | 252,424
460220479 | 5,323,864 | 37 | 143,888
461983321 | 9,815,491 | 70 | 140,221
488397464 | 3,814,820 | 2122 | 1,798
507638153 | 1,168,480 | 14 | 83,463
605479507 | 3,393,771 | 35 | 96,965
695555564 | 3,774,516 | 18 | 209,695
709865456 | 2,505,135 | 34 | 73,680
725507790 | 134,197,000 | 914 | 146,824
737303963 | 7,042,585 | 40 | 176,065
742517299 | 3,196,691 | 52 | 61,475
765990946 | 11,298,809 | 110 | 102,716
769259150 | 7,770,655 | 16 | 485,666
774637751 | 14,856,715 | 62 | 239,624
807998327 | 19,015,349 | 846 | 22,477
816528506 | 9,998,096 | 41 | 242,085
821736854 | 4,502,400 | 57 | 78,989
831153636 | 884,344 | 130 | 6,803
870096733 | 10,389,478 | 82 | 126,701
916493089 | 5,939,422 | 57 | 104,200
920775500 | 13,044,545 | 691 | 18,878
921991757 | 23,726,780 | 113 | 209,972
923653641 | 2,722,000 | 18 | 151,222
931084257 | 19,809,756 | 57 | 347,540
931353658 | 13,942,054 | 69 | 202,059
936755382 | 1,990,490 | 24 | 82,937
938704928 | 9,793,612 | 126 | 77,727
952223001 | 3,371,521 | 31 | 108,759
974323566 | 7,510,846 | 78 | 96,293
998418962 | 4,612,000 | 35 | 131,771
1008993417 | 1,065,256 | 21 | 50,726
1036673242 | 86,665,926 | 458 | 189,227
1047544912 | 12,706,348 | 167 | 76,086
1079241463 | 639,588 | 4 | 159,897
1080100154 | 13,493,317 | 86 | 156,899
1157306813 | 23,214,000 | 204 | 113,794
1170995123 | 1,954,476 | 13 | 150,344
1176704596 | 1,551,985 | 23 | 68,369
1190314840 | 16,885,829 | 808 | 20,898
1190725189 | 6,360,142 | 68 | 93,532
1199996737 | 12,773,634 | 66 | 193,540
1208792226 | 2,043,850 | 21 | 97,326
1237998436 | 14,291,766 | 134 | 106,655
1246033896 | 15,392,000 | 58 | 265,379
1246285115 | 11,261,303 | 61 | 184,612
1246302114 | 40,310,044 | 3115 | 12,941
1246892583 | 5,306,225 | 43 | 123,401
1247153819 | 7,454,736 | 63 | 118,329
1247167949 | 57,390,191 | 259 | 221,584
1247662700 | 105,504,196 | 395 | 267,099
1247670190 | 112,370,000 | 998 | 112,595
1247750161 | 158,893 | 4 | 39,723
1247758341 | 5,834,248 | 68 | 85,798
1247766035 | 5,108,385 | 34 | 150,247
1249481184 | 1,492,256 | 12 | 124,355
1250022715 | 7,189,955 | 76 | 94,605
1250103435 | 28,962,384 | 187 | 154,879
1250105714 | 4,800,000 | 53 | 90,566
1250174776 | 20,457,000 | 124 | 164,976
1250186876 | 88,739,000 | 333 | 266,483
1250192980 | 433,632 | 4 | 108,408
1250257754 | 3,281,352 | 41 | 80,033
1251302450 | 4,018,650 | 40 | 100,466
1252079576 | 110,491,969 | 497 | 222,318
1252436282 | 217,035 | 2 | 108,518
1253720272 | 14,816,335 | 77 | 192,420
1254322240 | 100,962,620 | 320 | 315,508
1255105505 | 465,216 | 5 | 93,043
1256321189 | 1,731,646 | 20 | 86,582
1256768152 | 2,917,626 | 34 | 85,813
1256819844 | 52,569,607 | 195 | 269,588
1256829696 | 5,821,437 | 62 | 93,894
1256861475 | 511,901 | 4 | 127,975
1256921129 | 7,230,791 | 24 | 301,283
1257376509 | 1,926,715 | 25 | 77,378
1257516574 | 10,874,000 | 99 | 109,838
1258743222 | 8,813,262 | 42 | 209,840
1260826068 | 1,978,584 | 22 | 89,936
1262959682 | 15,889,753 | 86 | 184,765
1264723282 | 3,640,000 | 20 | 182,000
1266339861 | 6,975,566 | 45 | 155,013
1266353281 | 11,331,686 | 135 | 83,938
1266507166 | 640,737 | 9 | 71,193
1266857885 | 1,625,000 | 19 | 85,526
1266942829 | 7,291,000 | 118 | 61,788
1266943121 | 16,868,347 | 115 | 146,173
1266947270 | 1,876,145 | 32 | 58,630
1267027715 | 1,656,638 | 29 | 57,622
1267462374 | 663,920 | 10 | 66,392
1267470068 | 10,547,269 | 76 | 138,780
1267543458 | 6,961,334 | 90 | 77,348
1267648076 | 3,323,141 | 26 | 127,813
1267651976 | 10,210,351 | 71 | 143,808
1268086064 | 10,016,000 | 34 | 294,588
1268146310 | 3,392,384 | 45 | 75,386
1268157420 | 25,542,464 | 321 | 79,572
1268224827 | 1,532,111 | 8 | 191,514
1268670167 | 355,324,231 | 1143 | 310,870
1268744533 | 2,474,000 | 43 | 57,535
1268751244 | 1,688,308 | 16 | 105,519
1268925702 | 1,794,208 | 14 | 128,158
1268951389 | 22,679,000 | 152 | 149,204
1269004689 | 161,938 | 3 | 52,577
1269269057 | 4,748,940 | 20 | 237,447
1269271489 | 3,866,340 | 30 | 128,878
1269291616 | 2,906,220 | 34 | 85,477
1269368306 | 20,343,681 | 108 | 188,367
1269436574 | 991,000 | 203 | 4,882
1269956130 | 48,092,000 | 352 | 136,625
1270041484 | 2,214,350 | 21 | 105,045
1270057007 | 11,118,850 | 90 | 123,543
1270480498 | 6,162,659 | 69 | 89,314
1270494120 | 7,701,343 | 64 | 120,333
1271250626 | 8,126,174 | 98 | 82,920
1271253012 | 3,574,300 | 26 | 137,473
1271254787 | 2,428,448 | 17 | 142,850
1271444344 | 3,399,635 | 38 | 89,464
1273082444 | 1,757,269 | 19 | 92,488
1273151594 | 2,636,265 | 18 | 146,459
1273511065 | 3,415,979 | 38 | 89,894
1273604467 | 935,330 | 16 | 59,386
1273670517 | 1,588,074 | 9 | 176,453
1274280512 | 185,220 | 1 | 185,220
1274377941 | 59,439,842 | 223 | 266,546
1274732253 | 4,418,363 | 33 | 133,890
1274891083 | 8,212,101 | 89 | 92,271
1274904043 | 7,013,000 | 55 | 127,509
1274977621 | 10,041,631 | 107 | 93,847
1274982453 | 24,617,949 | 165 | 149,200
1275498608 | 8,194,926 | 82 | 99,938
1275501481 | 8,854,439 | 42 | 210,820
1275511967 | 8,679,385 | 47 | 186,333
1276001619 | 1,921,000 | 10 | 192,100
1276010273 | 837,229 | 8 | 104,654
1276103578 | 6,547,098 | 43 | 152,258
1276522602 | 1,096,375 | 14 | 78,313
1276536764 | 1,760,404 | 7 | 251,486
1276720693 | 23,845,594 | 153 | 155,854
1276793499 | 912,115 | 8 | 114,014
1276868869 | 90,881,308 | 633 | 143,572
1276881128 | 6,249,947 | 65 | 96,153
1277148172 | 4,047,406 | 51 | 79,361
1277321808 | 29,153,315 | 202 | 144,323
1277389938 | 1,154,435 | 11 | 104,949
1277834733 | 32,327,732 | 144 | 225,280
1279745224 | 209,812,000 | 990 | 211,931
1280248531 | 9,645,673 | 48 | 200,952
1280327279 | 5,206,736 | 17 | 306,279
1280333008 | 1,855,202 | 19 | 97,642
1280413966 | 12,554,000 | 181 | 69,359
1280432405 | 9,508,149 | 73 | 130,249
1280778333 | 15,244,156 | 65 | 234,525
1281015259 | 4,717,220 | 56 | 84,236
1281019133 | 4,188,055 | 23 | 182,089
1281025757 | 4,588,575 | 31 | 148,019
1281031551 | 844,748 | 6 | 151,389
1281037430 | 686,821 | 8 | 85,853
1281105917 | 5,609,499 | 23 | 243,891
1281107514 | 2,896,917 | 16 | 180,157
1282051642 | 10,719,785 | 111 | 96,575
1282140686 | 4,415,042 | 35 | 125,534
1288447499 | 9,275,776 | 68 | 136,408
1294227725 | 1,198,400 | 19 | 63,074
1295078554 | 69,520,128 | 245 | 283,756
1350478164 | 7,764,988 | 73 | 106,735
1364503640 | 2,604,710 | 13 | 200,362
1397900651 | 20,812,200 | 72 | 289,058
1438893258 | 709,112 | 9 | 76,661
1442035945 | 104,000 | 62 | 1,677
1456199116 | 14,937,310 | 71 | 210,385
1461210273 | 688,001 | 5 | 137,600
1489228822 | 34,534,810 | 222 | 155,562
1508209231 | 58,126,775 | 247 | 235,331
1528554001 | 34,240,000 | 191 | 179,267
1531789493 | 6,468,184 | 656 | 9,860
1535674410 | 83,743,273 | 391 | 214,177
1565479699 | 4,024,755 | 31 | 129,831
1569320561 | 2,785,528 | 32 | 87,048
1605100384 | 1,196,061 | 172 | 6,954
1625376772 | 5,722,000 | 63 | 90,825
1658462633 | 191,092,628 | 608 | 314,297
1739021199 | 7,540,427 | 61 | 123,614
1751920052 | 4,841,397 | 70 | 69,163
1866991437 | 2,250,498 | 36 | 62,514
1871304606 | 1,807,141 | 17 | 106,302
1874228463 | 10,409,004 | 76 | 136,961
1919568775 | 1,769,572 | 18 | 98,310
1974568513 | 430,401 | 16 | 27,768
1974830581 | 1,518,225 | 16 | 94,889
1976603120 | 4,028,269 | 37 | 108,872
1995751409 | 14,548,104 | 254 | 57,276
2012969340 | 24,295,000 | 185 | 131,324
2044046179 | 27,293,631 | 110 | 248,124
2050270334 | 59,757,408 | 192 | 311,237
2071124572 | 30,636,210 | 212 | 144,510
2086748305 | 37,808,432 | 175 | 216,048
2109627131 | 11,900,000 | 75 | 158,667

(10) Sales, Employment, and Productivity at Each Firm Upon Completion of the Program and Each Year for the Two-year Period Following Completion

Firms that completed the TAAF Program in FY 2008 report that at completion, average sales were $10.9 million, average employment was 73, and average productivity was $150,674 (sales per employee).

Between FY 2008 and FY 2009, one year after completing the program, firms report that average sales increased by one percent, average employment decreased by 10 percent, and average productivity increased by 11 percent. The Bureau of Labor Statistics (BLS) reports that nationwide for the manufacturing industry, average employment decreased 12 percent and average productivity increased by 4 percent.

Between FY 2008 and FY 2010, two years after completing the program, firms report that average sales decreased by 14 percent, average employment decreased by 16 percent, and average productivity increased by 3 percent. BLS reports that nationwide for the manufacturing industry, average employment decreased 12 percent and average productivity increased by 9 percent.

For the purposes of this report, data was reported only for firms where all data was available. Since the certified firms are in various industries, which have a variety of ways to measure productivity, sales per employee was chosen as the productivity measure. This measure is used because it can be generally applied to all certified firms. However, BLS' productivity measures relate output to the labor hours used in the production of that output.

Exhibit 22: Summary of Average Sales, Employment, and Productivity at Firms Upon Completion of the Program and the One-Year Period Following Completion

Program completion | Average sales | Average employment | Average productivity
Completion (FY 2008) | $10,999,200 | 73 | $150,674
1st Year Following Completion (FY 2009) | $11,079,460 | 66 | $167,871
% Change 1st Year Following Completion | 1% | −10% | 11%

Exhibit 23: Summary of Average Sales, Employment, and Productivity at Firms Upon Completion of the Program and the Two-Year Period Following Completion

Program completion | Average sales | Average employment | Average productivity
Completion (FY 2008) | $10,999,200 | 73 | $150,674
2nd Year Following Completion (FY 2010) | $9,498,479 | 61 | $155,713
% Change 2nd Year Following Completion | −14% | −16% | 3%

Exhibit 24: Sales, Employment, and Productivity at Each Firm Upon Completion of the Program and Two-Year Period Following Completion

Firm ID | Average sales at completion (FY 2008) | Average sales 1st yr following completion (FY 2009) | Average sales 2nd yr following completion (FY 2010) | Average employment at completion (FY 2008) | Average employment 1st yr following completion (FY 2009) | Average employment 2nd yr following completion (FY 2010) | Average productivity at completion (FY 2008) | Average productivity 1st yr following completion (FY 2009) | Average productivity 2nd yr following completion (FY 2010)
FY08-01 | $39,390,601 | $37,698,350 | $21,692,925 | 325 | 275 | 173 | $121,202 | $137,085 | $125,393
FY08-05 | 10,630,000 | 10,800,000 | 4,800,000 | 64 | 55 | 38 | 166,094 | 196,364 | 126,316
FY08-03 | 28,400,000 | 31,500,000 | 25,150,000 | 190 | 180 | 158 | 149,474 | 175,000 | 159,177
FY08-04 | 5,130,000 | 5,800,000 | 5,325,204 | 33 | 35 | 31 | 155,455 | 165,714 | 171,781
FY08-02 | 16,500,000 | 17,800,000 | 17,000,000 | 53 | 55 | 56 | 311,321 | 323,636 | 303,571
FY08-23 | 3,000,000 | 2,000,000 | 2,000,000 | 25 | 25 | 23 | 120,000 | 80,000 | 86,957
FY08-24 | 7,500,000 | 7,000,000 | 7,020,687 | 67 | 65 | 65 | 111,940 | 107,692 | 108,011
FY08-20 | 2,000,000 | 1,000,000 | 2,400,000 | 21 | 10 | 22 | 95,238 | 100,000 | 109,091
FY08-25 | 4,200,000 | 4,000,000 | 4,200,000 | 33 | 31 | 33 | 127,273 | 129,032 | 127,273
FY08-26 | 1,700,000 | 1,100,000 | 1,200,000 | 9 | 9 | 9 | 188,889 | 122,222 | 133,333
FY08-21 | 6,056,458 | 5,500,000 | 3,006,918 | 27 | 31 | 21 | 224,313 | 177,419 | 143,187
FY08-28 | 3,070,000 | 3,080,000 | 2,300,000 | 19 | 18 | 15 | 161,579 | 171,111 | 153,333
FY08-22 | 10,200,000 | 9,000,000 | 10,000,000 | 58 | 55 | 57 | 175,862 | 163,636 | 175,439
FY08-27 | 18,750,000 | 17,000,000 | 18,500,000 | 86 | 80 | 85 | 218,023 | 212,500 | 217,647
FY08-30 | 275,000 | 248,000 | 229,000 | 6 | 8 | 7 | 45,833 | 31,000 | 32,714
FY08-29 | 313,000 | 416,000 | 533,000 | 22 | 12 | 12 | 14,227 | 34,667 | 44,417
FY08-34 | 3,081,000 | 2,220,000 | 1,597,000 | 39 | 25 | 22 | 79,000 | 88,800 | 72,591
FY08-31 | 17,500,000 | 14,200,000 | 10,900,000 | 195 | 160 | 120 | 89,744 | 88,750 | 90,833
FY08-32 | 3,210,000 | 4,273,000 | 4,637,000 | 36 | 41 | 35 | 89,167 | 104,220 | 132,486
FY08-36 | 18,592,000 | 18,227,000 | 16,852,000 | 130 | 105 | 125 | 143,015 | 173,590 | 134,816
FY08-37 | 354,000 | 859,000 | 1,117,000 | 5 | 7 | 6 | 70,800 | 122,714 | 186,167
FY08-33 | 30,000,000 | 40,000,000 | 40,000,000 | 200 | 100 | 120 | 150,000 | 400,000 | 333,333
FY08-35 | 14,300,000 | 14,200,000 | 13,000,000 | 38 | 35 | 37 | 376,316 | 405,714 | 351,351
FY08-38 | 6,500,000 | 7,100,000 | 8,400,000 | 50 | 68 | 80 | 130,000 | 104,412 | 105,000
FY08-39 | 37,000,000 | 40,000,000 | 43,000,000 | 440 | 429 | 439 | 84,091 | 93,240 | 97,950
FY08-41 | 7,500,000 | 8,900,000 | 9,400,000 | 25 | 29 | 31 | 300,000 | 306,897 | 303,226
FY08-40 | 8,500,000 | 10,500,000 | 10,750,000 | 15 | 25 | 28 | 566,667 | 420,000 | 383,929
FY08-44 | 911,948 | 881,669 | 430,401 | 20 | 16 | 11 | 45,597 | 55,104 | 39,127
FY08-42 | 1,972,425 | 1,629,361 | 945,420 | 18 | 14 | 14 | 109,579 | 116,383 | 67,530
FY08-43 | 19,493,382 | 15,767,000 | 19,000,000 | 88 | 86 | 86 | 221,516 | 183,337 | 220,930
FY08-47 | 520,610 | 452,662 | 301,635 | 8 | 6 | 5 | 65,076 | 75,444 | 60,327
FY08-49 | 4,250,000 | 3,386,346 | 1,818,408 | 22 | 19 | 15 | 193,182 | 178,229 | 121,227
FY08-57 | 769,184 | 816,322 | 674,255 | 11 | 11 | 10 | 69,926 | 74,211 | 67,426
FY08-56 | 2,960,719 | 3,027,576 | 2,292,154 | 37 | 37 | 33 | 80,019 | 81,826 | 69,459
FY08-53 | 7,278,583 | 6,535,827 | 4,675,983 | 43 | 36 | 36 | 169,269 | 181,551 | 129,888
FY08-52 | 6,160,677 | 6,101,363 | 4,593,196 | 34 | 26 | 27 | 181,196 | 234,668 | 170,118
FY08-54 | 41,000,000 | 40,000,000 | 22,500,000 | 75 | 70 | 75 | 546,667 | 571,429 | 300,000
FY08-55 | 29,000,000 | 28,000,000 | 18,700,000 | 200 | 204 | 147 | 145,000 | 137,255 | 127,211
Total | 10,299,200 | 11,079,460 | 9,498,479 | 73 | 66 | 61 | 150,674 | 167,871 | 155,713

(11) The Financial Assistance Received by Each Firm Participating in the Program

(12) The Financial Contribution Made by Each Firm Participating in the Program

In FY 2010, firms received $8.7 million in technical assistance provided by the TAACs to prepare petitions; and in the development and implementation of Adjustment Proposals (often through business consultants and other experts). Firms participating in the program contributed $6.1 million towards the development and implementation of Adjustment Proposals. Funds are not provided directly to firms; instead EDA funds TAACs and TAACs pay a cost-shared proportion of the cost to secure specialized business consultants.

Exhibit 25: Summary of TAAF Program Financial Assistance by TAAC: FY 2010

TAAC | TAAC assistance to firms | Amount paid to consultants by the TAACs | Total TAAC assistance to firms (TAACs + consultants) | Financial contribution by the firms
Great Lakes | $196,060 | $677,560 | $873,620 | $646,809
Mid-America | 93,836 | 466,399 | 560,235 | 466,399
MidAtlantic | 309,655 | 910,562 | 1,220,217 | 910,562
Midwest | 178,428 | 705,954 | 884,382 | 631,906
New England | 229,249 | 1,283,189 | 1,512,438 | 1,256,739
New York State | 152,425 | 366,230 | 518,655 | 271,104
Northwest | 53,257 | 499,053 | 552,310 | 443,905
Rocky Mountain | 493,122 | 433,261 | 926,383 | 433,261
Southeastern | 243,177 | 514,935 | 758,112 | 495,659
Southwest | 128,997 | 453,751 | 582,748 | 373,376
Western | 98,004 | 183,943 | 281,947 | 170,524
Total | 2,176,210 | 6,494,837 | 8,671,047 | 6,100,244

(13) The Types of Technical Assistance Included in the Adjustment Proposals of Firms Participating in the Program

Firms proposed various types of projects in Adjustment Proposals. Marketing/sales projects are geared toward increasing revenue, whereas production/manufacturing projects tend to be geared toward cutting costs. Support system projects can provide a competitive advantage by either cutting costs or creating new sales channels. Management and financial projects are designed to improve management's decision making ability and business control. More than half of all firms proposed to implement marketing/sales or production/manufacturing projects. Sample projects are listed below in Exhibit 26.

Exhibit 26: Characteristics of Technical Assistance in Adjustment Proposals: FY 2010

Project classification | Sample types of projects | Number of adjustment proposal projects | Adjustment proposal project costs
Financial | • Accounting systems upgrade • Cost control tracking system • Automatic Data Processing development | 30 | $517,000
Management | • Strategic business planning • Succession management • Management development | 79 | 1,987,100
Marketing/Sales | • Sales process training • Market expansion and feasibility analysis • Web site design and upgrade | 228 | 11,416,092
Production | • Lean manufacturing and certification • New product development • Production and warehouse automation | 215 | 11,918,300
Support Systems | • Enterprise Resource Planning • MIS upgrades • Computer Aided Design software • Supply chain management software | 162 | 6,984,400

Exhibit 27: Adjustment Proposals by Project Classification: FY 2010

(14) The Number of Firms Leaving the Program Before Completing the Project or Projects in Their Adjustment Proposals and the Reason the Project Was Not Completed

In FY 2010, of the 102 firms that left the TAAF program, 57 completed the program and the remaining 45 firms left for the reasons listed below in Exhibit 28.

Exhibit 28: Summary of Firms Leaving the TAAF Program: FY 2010

Reason for leaving program | Number of firms
Completed Assistance | 57
Firm Filed Chapter 11 | 1
Firm Sold | 2
Inadequate Funds for Project Implementation | 4
Lost Interest in Program | 4
Out of Business | 11
Past 5-year Threshold | 23
Total | 102

Conclusion

TAAF effectively targeted small and medium sized firms FY 2010. The average sales, employment and productivity of firms certified into the program in FY 2010 was higher than that of firms certified in FY 2009. More than half of all firms proposed to implement a marketing/sales project or production/engineering project in their Adjustment Proposals.

Firms that completed the TAAF Program in FY 2008 report that at completion, average sales were $10.3 million, average employment was 73, and average productivity was $140,977 (sales per employee). One year after completing the program (FY 2009), firms report that average sales increased by one percent, average employment decreased by 10 percent, and average productivity increased by 11 percent. BLS reported that nationwide for the manufacturing industry in FY 2009, average employment decreased 12 percent and average productivity increased by 4 percent. Two years after completing the program (FY 2010), firms report that average sales decreased by 14 percent, average employment decreased by 16 percent, and average productivity increased by 3 percent. BLS reported that nationwide for the manufacturing industry in FY 2010, average employment decreased 12 percent and average productivity increased by 9 percent.

Overall, there has been an increase in the demand for the TAAF Program in FY 2010, as demonstrated by the increase in the number of petitions for certification and Adjustment Proposals submitted to EDA for approval. In FY 2010, EDA approved an additional 114 petitions, a 53 percent increase as compared to FY 2009; and approved an additional 93 Adjustment Proposals, a 54 percent increase as compared to FY 2009.

The addition of TAAF staff resources facilitated EDA's ability to improve processing time for petitions and Adjustment Proposals in FY 2010. Although there was a spike in petitions and Adjustment Proposals, EDA successfully met the 40-day processing deadline to make a final determination for petitions accepted for filing; and the 60-day processing deadline for approval of Adjustment Proposals as required in the TGAAA. In fact, the average processing time for petitions has started to decline below the 40-day requirement and the average processing time for Adjustment Proposals is below 30 days.

Dated: January 20, 2011.
Bryan Borlik,
Director, Trade Adjustment Assistance for Firms Program.

[FR Doc. 2011-1583 Filed 1-25-11; 8:45 am]

BILLING CODE 3510-24-P